DEPARTMENT OF ENERGY

Federal Energy Regulatory Commission

[Docket No. MG98-6-003]

Natural Gas Pipeline Company of America; Notice of Filing

February 23, 2000.

Take notice that on February 14, 2000, Natural Gas Pipeline Company of America (Natural) filed its second update to its compliance plan in response to the Commission's January 16, 1998 Order. 82 FERC ¶ 61,038 (1998).

Natural states that it has served copies of its compliance plan upon each person on the official service list compiled by the Secretary in this proceeding.

Any person desiring to be heard or to protest said filing should file a motion to intervene or protest with the Federal Energy Regulatory Commission, 888 First Street, NE, Washington, DC, 20426, in accordance with rules 211 or 214 of the Commission's Rules of Practice and Procedure (18 CFR 385.211 or 385.214). All such motions to intervene or protest should be filed on or before March 9, 2000. Protests will be considered by the Commission in determining the appropriate action to be taken but will not serve to make protestants parties to the proceeding. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-4694 Filed 2-28-00; 8:45 am]

BILLING CODE 6717-01-M